DEPARTMENT OF THE INTERIOR

Office of Surface Mining Reclamation and Enforcement

[S1D1S SS08011000 SX066A0067F 178S180110; S2D2D SS08011000 SX066A00 33F 17XS501520]

Agency Information Collection Activities: OMB Control Number 1029-0067; Restriction on Financial Interests of State Employees

AGENCY: Office of Surface Mining Reclamation and Enforcement, Interior.

ACTION: Notice and request for comments for 1029-0067.

SUMMARY: In accordance with the Paperwork Reduction Act of 1995, the Office of Surface Mining Reclamation and Enforcement (OSMRE) is announcing that the information collection request for the restriction on financial interests of State employees has been forwarded to the Office of Management and Budget (OMB) for review and reauthorization. The information collection package was previously approved and assigned clearance number 1029-0067. This notice describes the nature of the information collection activity and the expected burden and cost.

DATES: OMB has up to 60 days to approve or disapprove the information collection, but may respond after 30 days. Therefore, you should submit your comments to OMB by July 21, 2017, in order to be assured of consideration.

ADDRESSES: Submit comments to the Office of Information and Regulatory Affairs, Office of Management and Budget, Attention: Department of the Interior Desk Officer, by telefax at (202) 395-5806 or via email at OIRA_Submission@omb.eop.gov. Also, please send a copy of your comments to John Trelease, Office of Surface Mining Reclamation and Enforcement, 1951 Constitution Ave. NW., Room 203—SIB, Washington, DC 20240, or electronically to jtrelease@osmre.gov. Please refer to OMB control number 1029-0067 in your correspondence.

FOR FURTHER INFORMATION CONTACT: To request a copy of the information collection package, contact John Trelease at (202) 208-2783, or electronically at jtrelease@osmre.gov. You may also view the collection at http://www.reginfo.gov/public/do/PRAMain (Information Collection Review, Currently Under Review, Agency is Department of the Interior, DOI-OSMRE).

SUPPLEMENTARY INFORMATION: OMB regulations at 5 CFR 1320, which implement provisions of the Paperwork Reduction Act of 1995 (Pub. L. 104-13), require that interested members of the public and affected agencies have an opportunity to comment on information collection and recordkeeping activities [see 5 CFR 1320.8(d)]. We have submitted a request to OMB to renew its approval for the collection of information for 30 CFR 705 and the Form OSM-23, Restriction on financial interests of State employees. We are requesting a 3-year term of approval for this information collection activity.

An agency may not conduct or sponsor, and a person is not required to respond to, a collection of information unless it displays a currently valid OMB control number. The OMB control number for this collection of information is 1029-0067. Responses are mandatory.

As required under 5 CFR 1320.8(d), a Federal Register notice soliciting comments on 30 CFR 705 was published on March 7, 2017 (82 FR 12839). No comments were received. This notice provides you with an additional 30 days in which to comment on the following information collection activity:

Title: 30 CFR 705—Restriction on financial interests of State employees.

OMB Control Number: 1029-0067.

Summary: Respondents supply information on employment and financial interests. The purpose of the collection is to ensure compliance with section 517(g) of the Surface Mining Control and Reclamation Act of 1977, which places an absolute prohibition on employees of regulatory authorities having a direct or indirect financial interest in underground or surface coal mining operations.

Bureau Form Number: OSM-23.

Frequency of Collection: Entrance on duty and annually.

Description of Respondents: Any State regulatory authority employee or member of advisory boards or commissions established in accordance with State law or regulation to represent multiple interests who performs any function or duty under the Surface Mining Control and Reclamation Act.

Total Annual Responses: 5,016.

Total Annual Burden Hours: 428.

Send comments on the need for the collection of information for the performance of the functions of the agency; the accuracy of the agency's burden estimates; ways to enhance the quality, utility and clarity of the information collection; and ways to minimize the information collection burden on respondents, such as use of automated means of collection of the information, to the addresses listed under ADDRESSES. Please refer to OMB control number 1029-0067 in your correspondence.

Before including your address, phone number, email address, or other personal identifying information in your comment, you should be aware that your entire comment, including your personal identifying information, may be made publicly available at any time. While you can ask us in your comment to withhold your personal identifying information from public review, we cannot guarantee that we will be able to do so.

Authority: The authorities for this action are the Surface Mining Control and Reclamation Act of 1977, as amended (30 U.S.C. 1201 et seq.), and the Paperwork Reduction Act of 1995 (44 U.S.C. 3501 et seq.).

Dated: May 12, 2017.
John A. Trelease,
Acting Chief, Division of Regulatory Support.

[FR Doc. 2017-12904 Filed 6-20-17; 8:45 am]

BILLING CODE 4310-05-P+